DEPARTMENT OF THE INTERIOR

Office of Surface Mining Reclamation and Enforcement

30 CFR Part 936

[SPATS No. OK-027-FOR]

Oklahoma Regulatory Program

AGENCY: Office of Surface Mining Reclamation and Enforcement (OSM), Interior.

ACTION: Final rule; approval of amendment.

SUMMARY: OSM is approving an amendment to the Oklahoma regulatory program (Oklahoma program) under the Surface Mining Control and Reclamation Act of 1977 (SMCRA). Oklahoma proposed revisions and additions to its regulations concerning restrictions on the financial interests of State employees. Specifically, the amendment concerns the authority of the Director of the Department of Mines, where to file statements of financial interests, what to report on such statements, and resolving prohibited interests. Oklahoma intends to clarify the responsibilities of the Director of the Oklahoma Department of Mines, advisory board members, commissions, and employees regarding restriction on the financial interests of State employees.

EFFECTIVE DATE: May 26, 2000.

FOR FURTHER INFORMATION CONTACT: Michael C. Wolfrom, Director, Tulsa Field Office, Office of Surface Mining, 5100 East Skelly Drive, Suite 470, Tulsa, Oklahoma 74135-6548. Telephone: (918) 581-6430. Internet: mwolfrom@tokgw.osmre.gov.

SUPPLEMENTARY INFORMATION:

I. Background on the Oklahoma Program

II. Submission of the Amendment

III. Director's Findings

IV. Summary and Disposition of Comments

V. Director's Decision

VI. Procedural Determinations

I. Background on the Oklahoma Program

On January 19, 1981, the Secretary of the Interior conditionally approved the Oklahoma program. You can find background information on the Oklahoma program, including the Secretary's findings, the disposition of comments, and the conditions of approval in the January 19, 1981, Federal Register (46 FR 4902). You can find later actions concerning the Oklahoma program at 30 CFR 936.15 and 936.16.

II. Submission of the Proposed Amendment

By letter dated January 13, 2000 (Administrative Record No. OK-985.01), Oklahoma sent us an amendment to its approved regulatory program under the Federal regulations at 732.17(b). Oklahoma sent the amendment in response to our letter dated December 6, 1999 (Administrative Record No. OK-985), that we sent to Oklahoma concerning regulation changes in its program that we did not approve. Oklahoma proposed to amend the Oklahoma Administrative Code (OAC). We announced receipt of the amendment in the March 31, 2000, Federal Register (65 FR 17213). In the same document, we opened the public comment period and provided an opportunity for a public hearing or meeting on the adequacy of the amendment. The public comment period closed on May 1, 2000. Because no one requested a public hearing or meeting, we did not hold one.

III. Director's Findings

Following, under SMCRA and the Federal regulations at 30 CFR 732.15 and 732.17, are our findings concerning the amendment to the Oklahoma permanent regulatory program.

Any revisions that we do not discuss below are about misspelled words, minor wording changes, or revised cross-references and paragraph notations to reflect organizational changes resulting from this amendment.

A. OAC 460:20-5-3. Authority

Oklahoma proposed to add a new paragraph (4) to read as follows:

File all statements and supplements received pursuant to 45 O.S. Supp. 1980, Section 765, from members of advisory boards and the Oklahoma Mining Commission with the Oklahoma Governor's Office, Director of Appointments.

This paragraph authorizes the Director of the Oklahoma Department of Mines to file with the Oklahoma Governor's Office, Director of Appointments all statements and supplements received according to 45 O.S. Supp. 1980, Section 765 from members of advisory boards and the Oklahoma Mining Commission. We are approving this addition because the federal regulations at 30 CFR 705.3(b) allow the state regulatory authority to expand the provisions of 30 CFR Part 705—Restrictions on Financial Interests of State Employees, in order to meet the particular needs within the State and because the addition is not inconsistent with the federal regulations. However, in a letter dated March 29, 2000 (Administrative Record No. OK-985.05), we notified Oklahoma that the reference to Section 765 should be Section 767. We advised the state to make this reference correction in a future rulemaking.

B. OAC 460:20-5-9. Where To File

Previously, the Director of the Oklahoma Department of Mines was to file his or her statement with the Director of OSM. Also, all other employees and members of advisory boards and commissions representing multiple interests, as provided in Section 460:20-5-7, were to file their statements with the Director of the Oklahoma Department of Mines or such other official as may be designated by state law or regulation. The Director of the Oklahoma Department of Mines will continue to file his or her statement with the Director of OSM. Oklahoma proposed to have members of advisory boards and commissions representing multiple interests, as provided in Section 460:20-5-7, file their statements with the Governor's Office, Director of Appointments, or such other official as may be designated by state law or regulation. The state also proposed to have all other employees file their statement with the Director of the Oklahoma Department of Mines according to the requirements of 45 O.S. Supp. 786 and 460:20-5. We are approving these changes because they meet the requirements of 30 CFR 705.15 which states that all employees (except the head of the state regulatory authority) and members of advisory boards and commissions representing multiple interests must file their statements with the head of the state regulatory authority or such other official as may be designated by state law or regulation. However, in a letter dated March 29, 2000 (Administrative Record No. OK-985.05), we notified Oklahoma that the reference to Section 786 should be Section 767. We advised the state to make this reference correction in a future rulemaking.

C. OAC 460:20-5-10. What To Report

Oklahoma proposed to revise paragraph (c)(3) to read as follows:

(3) The exceptions shown in the employee certification of the form must provide enough information for the Director of the Department or the Governor's Office, Director of Appointments, for Commission members, to determine the existence of a direct or indirect financial interest. Accordingly, the exceptions should:

Oklahoma proposed to clarify that the Director of the Oklahoma Department of Mines is responsible for determining the existence of a direct or indirect financial interest for employees and that the Governor's Office, Director of Appointments, is responsible for making the same type of determination for Commission members. We are approving this amendment because it is consistent with 30 CFR 705.17(c)(3).

IV. Summary and Disposition of Comments

Federal Agency Comments

On March 22, 2000, under section 503(b) of SMCRA and 30 CFR 732.17(h)(11)(i) of the Federal regulations, we requested comments from various Federal agencies with an actual or potential interest in the Oklahoma amendment (Administrative Record No. OK-985.04). The U.S. Army Corps of Engineers responded on April 17, 2000 (Administrative Record No. OK-985.08), that it found the proposed amendment to be satisfactory.

Environmental Protection Agency (EPA)

Under 30 CFR 732.17(h)(11)(ii), we are required to get a written agreement from the EPA for those provisions of the proposed program amendment that relate to air or water quality standards promulgated under the authority of the Clean Water Act (33 U.S.C. 1251 et seq.) or the Clean Air Act (42 U.S.C. 7401 et seq.). None of the revisions that Oklahoma proposed to make in this amendment pertain to air or water quality standards. Therefore, we did not ask the EPA to agree on the amendment.

Under 30 CFR 732.17(h)(11)(i), we requested comments on the amendment from the EPA on March 22, 2000 (Administrative Record No. OK-985.02). The EPA did not respond to our request.

State Historical Preservation Officer (SHPO) and the Advisory Council on Historic Preservation (ACHP)

Under 30 CFR 732.17(h)(4), we are required to request comments from the SHPO and ACHP on amendments that may have an effect on historic properties. On March 22, 2000, we requested comments on Oklahoma's amendment (Administrative Record No. OK-985.03), but neither responded to our request.

Public Comments

We requested public comments on the amendment, but did not receive any.

V. Director's Decision

Based on the above findings, we approve the amendment as sent to us by Oklahoma on January 13, 2000. To implement this decision, we are amending the Federal regulations at 30 CFR Part 936, which codify decisions concerning the Oklahoma program. We are making this final rule effective immediately to expedite the State program amendment process and to encourage Oklahoma to bring its program into conformity with the Federal standards. SMCRA requires consistency of State and Federal standards.

VI. Procedural Determinations

Executive Order 12866—Regulatory Planning and Review

This rule is exempted from review by the Office of Management and Budget (OMB) under Executive Order 12866.

Executive Order 12630—Takings

This rule does not have takings implications. This determination is based on the analysis performed for the counterpart federal regulation.

Executive Order 13132—Federalism

This rule does not have federalism implications. SMCRA delineates the roles of the federal and state governments with regard to the regulation of surface coal mining and reclamation operations. One of the purposes of SMCRA is to “establish a nationwide program to protect society and the environment from the adverse effects of surface coal mining operations.” Section 503(a)(1) of SMCRA requires that state laws regulating surface coal mining and reclamation operations be “in accordance with” the requirements of SMCRA, and section 503(a)(7) requires that state programs contain rules and regulations “consistent with” regulations issued by the Secretary under SMCRA.

Executive Order 12988—Civil Justice Reform

The Department of the Interior has conducted the reviews required by section 3 of Executive Order 12988 and has determined that, to the extent allowed by law, this rule meets the applicable standards of subsections (a) and (b) of that section. However, these standards are not applicable to the actual language of state regulatory programs and program amendments since each program is drafted and promulgated by a specific state, not by OSM. Under sections 503 and 505 of SMCRA (30 U.S.C. 1253 and 1255) and 30 CFR 730.11, 732.15, and 732.17(h)(10), decisions on proposed state regulatory programs and program amendments submitted by the states must be based solely on a determination of whether the submittal is consistent with SMCRA and its implementing federal regulations and whether the other requirements of 30 CFR Parts 730, 731, and 732 have been met.

National Environmental Policy Act

Section 702(d) of SMCRA (30 U.S.C. 1292(d)) provides a decision on a proposed state regulatory program provision does not constitute major federal action within the meaning of section 102(2)(C) of the National Environmental Policy Act (42 U.S.C. 4332(2)(C)). A determination has been made that such decisions are categorically excluded from the NEPA process (516 DM 8.4.A).

Paperwork Reduction Act

This rule does not contain information collection requirements that require approval by OMB under the Paperwork Reduction Act (44 U.S.C. 3507 et seq.).

Regulatory Flexibility Act

The Department of the Interior has determined that this rule will not have a significant economic impact on a substantial number of small entities under the Regulatory Flexibility Act (5 U.S.C. 601 et seq.). The state submittal which is the subject of this rule is based upon counterpart federal regulations for which an economic analysis was prepared and certification made that such regulations would not have a significant economic effect upon a substantial number of small entities. Therefore, this rule will ensure that existing requirements previously promulgated by OSM will be implemented by the state. In making the determination as to whether this rule would have a significant economic impact, the Department relied upon the data and assumptions for the counterpart federal regulations.

Small Business Regulatory Enforcement Fairness Act

This rule is not a major rule under 5 U.S.C. 804(2), the Small Business Regulatory Enforcement Fairness Act. This rule:

a. Does not have an annual effect on the economy of $100 million.

b. Will not cause a major increase in costs or prices for consumers, individual industries, federal, state, or local government agencies, or geographic regions.

c. Does not have significant adverse effects on competition, employment, investment, productivity, innovation, or the ability of U.S. based enterprises to compete with foreign-based enterprises.

This determination is based upon the fact that the state submittal which is the subject of this rule is based upon counterpart federal regulations for which an analysis was prepared and a determination made that the federal regulation was not considered a major rule.

Unfunded Mandates

This rule will not impose a cost of $100 million or more in any given year on any governmental entity or the private sector.

List of Subjects in 30 CFR Part 936

Intergovernmental relations, Surface mining, Underground mining.

Dated: May 11, 2000.
Richard J. Seibel,
Acting Regional Director, Mid-Continent Regional Coordinating Center.

For the reasons set out in the preamble, 30 CFR Part 936 is amended as set forth below:

PART 936—OKLAHOMA

1. The authority citation for Part 936 continues to read as follows:

Authority: 30 U.S.C. 1201 et seq.

2. Section 936.15 is amended in the table by adding a new entry in chronological order by “Date of final publication” to read as follows:

§ 936.15 Approval of Oklahoma regulatory program amendments.

* * * * *

Original amendment submission date | Date of final publication | Citation/description
* * * * * * *
January 13, 2000 | May 26, 2000 | OAC 460:20-5-3(4); 20-5-9(a)-(c); 20-5-10(c)(3); 20-5-12(b)(1).

[FR Doc. 00-13247 Filed 5-25-00; 8:45 am]

BILLING CODE 4310-05-P